Proclamation 10020 of April 30, 2020

National Mental Health Awareness Month, 2020

By the President of the United States of America

A Proclamation

This year, National Mental Health Awareness Month coincides with one of the most complex and challenging periods in our Nation's recent history—combatting the coronavirus pandemic. Not only has the virus caused immense physical suffering and loss for many people, it has also resulted in mental and emotional hardship. The stress and worry over the health and safety of family and friends, forced isolation, and financial distress can all result in anxiety, depression, substance misuse and abuse, and, tragically, even suicide. There is no question this is a difficult and unprecedented time for Americans. Yet, we know that there are ways to help people cope during these uncertain times, and we are committed to caring for those in need.

Mental illness can affect anyone and can develop at any time. Its effects spread well beyond the individual to family, friends, and coworkers. As a Nation, we must fight the stigmas surrounding mental illness and empower those affected by emotional distress and their loved ones to seek care. We also recommit to strengthening our efforts to ensure every individual living with a mental illness, including children and young adults, our Nation's fastest growing population diagnosed with behavioral, mental, or emotional issues, receives the care and treatment they need to enjoy the blessings of a fulfilling and productive life.

One of my first actions in response to the pandemic was to ensure easy access to vital medical resources. Expanded access to medical care through telemedicine is essential to fighting the virus. Through the Coronavirus Aid, Relief, and Economic Security (CARES) Act, we have simplified access to health care and treatment without fear of the transmission of COVID-19 and other illnesses. By expanding Medicare telehealth coverage for the duration of the public health emergency, we have enabled our most vulnerable and high-risk populations to access important medical care from the comfort and safety of their home. Additionally, we have given $19.6 billion to the Department of Veterans Affairs (VA) to further support our veterans through this crisis. This funding covers things like expanded telehealth services, including for mental health, and additional access to the VA Video Connect app, which offers a free, secure, virtual platform for patients to receive direct care from their VA medical providers through video.

Providing an uninterrupted connection to essential mental health treatment and social support groups through telehealth technology can be lifesaving, especially for the more than 11 million American adults who struggle with serious mental illnesses such as bipolar disorder, schizophrenia, or major depressive disorder. That is one of the reasons I have overseen a historic expansion of telehealth services to give people in need easier access to mental health treatments, crisis interventions, and other vital resources. We must continue to find innovative ways to link doctors, nurse practitioners, physician assistants, clinical psychologists, and licensed clinical social workers to people who need their help.

As President, it is my top priority to ensure the health and wellness of all Americans, especially during the present crisis. Through the Community Mental Health Services Block Grant program, the Substance Abuse and Mental Health Services Administration (SAMHSA) provides critical funding to every State to support community services for adults with serious mental illnesses and children with significant emotional disturbances. Through these grants, States and communities have increased ability to make substantial improvements in treatment delivery and to greatly expand access to those in need of behavioral healthcare services. As the virus began to take hold, I ensured that SAMHSA very quickly began releasing $360 million in emergency grant funding to provide Americans with substance use treatment and mental health services. Additionally, to help meet the needs of Americans during this crisis, I authorized the Department of Homeland Security and Federal Emergency Management Agency to make crisis counseling and training services available to States hardest hit through the Stafford Act.

Tragically some individuals feel their problems are insurmountable, lose their will and hope, and succumb to suicide. We must prevent these tragedies. The Federal Communications Commission has designated a national three-digit number for suicide prevention to connect directly to the National Suicide Prevention Lifeline. The proposed abbreviated number, 988, would make crisis help more widely available to Americans. Additionally, in March of 2019, I signed an Executive Order to establish the President's Roadmap to Empower Veterans and End a National Tragedy of Suicide (PREVENTS), which unites State and local governments, faith communities, employers, schools, and healthcare organizations through a whole-of-government and whole-of-Nation approach to provide world-class, evidence-based tactics for veteran suicide prevention. Rather than waiting for veterans in need to seek help, this program actively empowers veteran communities through local and national support networks. In response to the current crisis, the PREVENTS initiative—with Second Lady Karen Pence as Lead Ambassador—has launched the #MoreThanEverBefore campaign to encourage all Americans to compassionately reach out to veterans in need. My fiscal year 2021 budget requests $313 million—a 32-percent increase from the enacted fiscal year 2020 level—to support and sustain these initiatives. My Administration will always champion policies and treatments to help all Americans appreciate the full and abundant potential of life.

No American should ever feel alone. Let us recommit to lifting up our struggling friends, family members, and neighbors with the touch of humanity. There is always the promise of recovery, healing, and renewal.

NOW, THEREFORE, I, DONALD J. TRUMP, President of the United States of America, by virtue of the authority vested in me by the Constitution and the laws of the United States, do hereby proclaim May 2020 as National Mental Health Awareness Month. I call upon all Americans to support citizens suffering from mental illnesses, raise awareness of mental health conditions through appropriate programs and activities, and commit our Nation to innovative prevention, diagnosis, and treatment.

IN WITNESS WHEREOF, I have hereunto set my hand this thirtieth day of April, in the year of our Lord two thousand twenty, and of the Independence of the United States of America the two hundred and forty-fourth.

[FR Doc. 2020-09737

Filed 5-4-20; 11:15 am]

Billing code 3295-F0-P